DEPARTMENT OF THE INTERIOR

Bureau of Land Management

[LLCO923000-L14300000-FQ0000; COC-28585]

Public Land Order No. 7977; Partial Revocation, Power Site Reserve No. 78; Colorado

AGENCY: Bureau of Land Management, Interior.

ACTION: Public Land Order.

SUMMARY: This order partially revokes a withdrawal created by an Executive Order insofar as it affects 40.81 acres of National Forest System land withdrawn for protection of water power values designated as Power Site Reserve No. 78. This order also opens the land to such forms of disposition that may be made of National Forest System lands.

DATES: Effective Date: September 24, 2012.

FOR FURTHER INFORMATION CONTACT: John D. Beck, Chief, Branch of Lands and Realty, BLM Colorado State Office, 2850 Youngfield Street, Lakewood, Colorado 80215, (303) 239-3882; jbeck@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The Bureau of Land Management has determined that a portion of the withdrawal created by the Executive Order dated July 2, 1910, which established Power Site Reserve No. 78, is no longer needed for the purpose for which the land was withdrawn and partial revocation is needed to facilitate a transfer of title by the Forest Service. The Federal Energy Regulatory Commission has no objections to the partial revocation.

Order

By virtue of the authority vested in the Secretary of the Interior by Section 204 of the Federal Land Policy and Management Act of 1976, 43 U.S.C. 1714, it is ordered as follows:

1. The withdrawal created by the Executive Order dated July 2, 1910, which established Power Site Reserve No 78, is hereby revoked insofar as it affects the following described land:

Sixth Principal Meridian

T. 1 S., R. 72 W.,

Sec. 33, lot 1.

The area described contains 40.81 acres in Gilpin County.

2. At 9 a.m. on September 24, 2012 the land described in Paragraph 1 is hereby opened to such forms of disposition that may be made of National Forest System land, subject to valid existing rights, the provisions of existing withdrawals, other segregations of record, and the requirements of applicable law.

Dated: August 29, 2012.
Rhea S. Suh,
Assistant Secretary—Policy, Management and Budget.

[FR Doc. 2012-23478 Filed 9-21-12; 8:45 am]

BILLING CODE 3410-11-P